DEPARTMENT OF AGRICULTURE

Forest Service

Nicolet Resource Advisory Committee

AGENCY: Forest Service, USDA.

ACTION: Notice of Meeting.

SUMMARY: The Nicolet Resource Advisory Committee will meet in Crandon, Wisconsin. The committee is meeting as authorized under the Secure Rural Schools and Community Self-Determination Act (Pub. L. 110-343) and in compliance with the Federal Advisory Committee Act. The purpose is to hold a meeting to review submitted project proposals. The general public is invited to attend this meeting.

DATES: The meeting will be held on February 23, 2011, and will begin at 9:30 a.m.

ADDRESSES: The meeting will be held at the Forest County Courthouse, County Boardroom, 200 East Madison Street, Crandon, WI. Written comments should be sent to Penny McLaughlin, Chequamegon-Nicolet National Forest, 4978 Hwy 8 W, Laona, WI 54541. Comments may also be sent via e-mail to pmclaughlin@fs.fed.us or via facsimile to 715-674-2545.

FOR FURTHER INFORMATION CONTACT: Penny McLaughlin, RAC Coordinator, USDA, Chequamegon-Nicolet National Forest, 4978 Hwy 8 W, Laona, WI 54541; 715-674-4481; e-mail: pmclaughlin@fs.fed.us.

SUPPLEMENTARY INFORMATION: The meeting is open to the public. The following business will be conducted: (1) Review and recommend the project proposal submissions for Title II projects; and (2) Public Comment.

Dated: January 3, 2011.
Paul I V Strong,
Forest Supervisor.

[FR Doc. 2011-1307 Filed 1-21-11; 8:45 am]

BILLING CODE 3410-11-P